FEDERAL COMMUNICATIONS COMMISSION

47 CFR Part 73

[DA 01-1733; MM Docket No. 99-14; RM-9442 & RM-9647]

Radio Broadcasting Services; Browning, Columbia Falls & Pablo, MT

AGENCY: Federal Communications Commission.

ACTION: Final rule.

SUMMARY: In response to a proposal filed by Mountain West Broadcasting, we will allot Channel 276C3 at Columbia Falls, Montana. See 64 FR 5740, February 2, 1999. The coordinates for Channel 276C3 at Columbia Falls are 48-22-30 and 114-10-54. In response to a counterproposal filed by The Battani Corporation we will allot Channel 234C2 at Browning, Montana and Channel 259C2 at Pablo, Montana. The coordinates for Channel 234C2 at Browning are 48-35-03 and 112-59-42. The coordinates for Channel 259C2 at Pablo are 47-36-01 and 114-07-05. Canadian concurrence is required for the allotments at Browning, Columbia Falls and Pablo. A filing window for the Channels at Browning, Columbia Falls and Pablo will not be opened at this time. Instead, the issue of opening these allotments for auction will be addressed by the Commission in a subsequent order.

DATES: Effective September 4, 2001.

FOR FURTHER INFORMATION CONTACT: Kathleen Scheuerle, Mass Media Bureau, (202) 418-2180.

SUPPLEMENTARY INFORMATION: This is a summary of the Commission's Report and Order, MM Docket No. 99-14, adopted July 11, 2001, and released July 20, 2001. The full text of this Commission decision is available for inspection and copying during normal business hours in the Commission's Reference Center, 445 12th Street, SW., Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Montana, is amended by adding Channel 276C3 at Columbia Falls, by adding Browning, Channel 234C2 and by adding Pablo, Channel 259C2.

Federal Communications Commission.
John A. Karousos,
Chief, Allocations Branch, Policy and Rules Division, Mass Media Bureau.

[FR Doc. 01-18955 Filed 7-30-01; 8:45 am]

BILLING CODE 6712-01-P